DEPARTMENT OF THE INTERIOR

Bureau of Reclamation

[RR02013000, XXXR5537F3, RX.19871110.1000000]

Notice of Availability and Notice of Public Hearings for the Draft Environmental Impact Statement/Environmental Impact Report for the Mendota Pool Bypass and Reach 2B Improvements Project

AGENCY: Bureau of Reclamation, Interior.

ACTION: Notice.

SUMMARY: The Bureau of Reclamation and the State Lands Commission have made available for public review and comment the Mendota Pool Bypass and Reach 2B Improvements Project Draft Environmental Impact Statement/Environmental Impact Report (EIS/EIR). The Mendota Pool Bypass and Reach 2B Improvements Project is a component of the San Joaquin River Restoration Program which seeks to restore flows to the San Joaquin River from Friant Dam to the confluence of the Merced River, and restore a self-sustaining Chinook salmon fishery in the river while reducing or avoiding adverse water supply impacts associated with Restoration Flows. The Project includes the construction, operation, and maintenance of the Mendota Pool Bypass and improvements in the San Joaquin River channel in Reach 2B to assist in achieving the San Joaquin River Restoration Program's Restoration Goal.

DATES: Written comments on the Draft EIS/EIR should be submitted on or before August 10, 2015.

Hearings to receive oral or written comments will be held on:

• Wednesday, July 8, 2015, from 6 to 9 p.m., Fresno, CA;

• Thursday, July 9, 2015, from 6 to 9 p.m., Los Banos, CA; and

• Friday, July 10, 2015, from 9 a.m. to 12 noon, Sacramento, CA.

Staff will be available to take comments and answer questions during this time.

ADDRESSES: Send written comments to Ms. Becky Victorine, Bureau of Reclamation, San Joaquin River Restoration Program Office, MP-170, 2800 Cottage Way, Sacramento, California 95825-1898; or via email to Reach2B_EISEIR_Comments@restoresjr.net.

Public hearings will be held in the following locations:

• Fresno—Piccadilly Inn Shaw, 2305 West Fresno Avenue, Fresno, CA.

• Los Banos—Los Banos Community Center, 645 7th Street, Los Banos, CA.

• Sacramento—Federal Center, 2800 Cottage Way Room C-1002, Sacramento, CA.

The Draft EIS/EIR may be viewed at the Bureau of Reclamation's Web site at http://www.usbr.gov/mp/nepa/nepa_projdetails.cfm?Project_ID=4032. Copies of the EIS/EIR are available for public inspection at several libraries and government offices.

To request a compact disc of the Draft EIS/EIR, please contact Ms. Becky Victorine as indicated above, or call (916) 978-4624.

FOR FURTHER INFORMATION CONTACT: Ms. Katrina Harrison, Program Engineer, Bureau of Reclamation, via email at Reach2B_EISEIR_Comments@restoresjr.net, or at (916) 978-5465. For information regarding California Environmental Quality Act, contact Mr. Christopher Huitt, Senior Environmental Scientist, California State Lands Commission, 100 Howe Avenue, Suite 100 South, Sacramento, CA 95825, (916) 574-2080; or via email to christopher.huitt@slc.ca.gov.

SUPPLEMENTARY INFORMATION: The Mendota Pool Bypass and Reach 2B Improvements Project (Project) includes the construction, operation, and maintenance of the Mendota Pool Bypass and improvements in Reach 2B of the San Joaquin River channel in Reach 2B. The Project is a key component to restoring flows and a self-sustaining Chinook salmon fishery to the San Joaquin River from Friant Dam to the confluence of the Merced River. Specifically, the Project consists of a floodplain width which would be capable of conveying at least 4,500 cubic feet per second (cfs), a method to bypass restoration flows around Mendota Pool, and a method to deliver water to Mendota Pool. The Project footprint extends from approximately 0.3 mile above the Chowchilla Bypass Bifurcation Structure to approximately one mile below the Mendota Dam in the area of Fresno and Madera counties, near the town of Mendota, California. The Draft EIS/EIR assesses the potential environmental effects of five alternatives being considered, which are described below.

Under the No-Action Alternative, the Project would not be implemented. Although future conditions would not include the components described below in the Action Alternatives, other components of the San Joaquin River Restoration Program (SJRRP) would be implemented following completion and receipt of appropriate environmental reviews and approvals. Likely future conditions include the SJRRP components analyzed in the Program EIS/EIR for the SJRRP, Restoration Flows similar to those that started January 2014, and other reasonably foreseeable actions expected to occur in the Project area. It is assumed for the No-Action Alternative that agriculture would continue in the study area, and cropland would be the dominant cover type, consistent with the existing condition. The No-Action Alternative generally assumes no channel or structural improvements would be made in Reach 2B, and Restoration Flows would be limited to the existing Reach 2B capacity.

All four Action Alternatives (Alternatives A, B, C, and D) would be designed to provide conveyance of at least 4,500 cfs in Reach 2B and through the Mendota Pool Bypass, and diversion and screening of up to 2,500 cfs from Reach 2B into Mendota Pool. Constructed elements common to the Action Alternatives include the provision of fish habitat and passage, seepage control measures, removal of existing levees and structures, and levee and structure construction and modification, among other activities.

Under Alternative A (Compact Bypass with Narrow Floodplain and South Canal), the Compact Bypass Channel would be constructed between Reach 2B and Reach 3 in order to bypass the Mendota Pool. Reach 3 of the San Joaquin River is located downstream of Reach 2B, from Mendota Dam to Sack Dam. Restoration Flows would enter Reach 2B, flow through the reach, then downstream to Reach 3 via the Compact Bypass Channel. The South Canal would be built to convey San Joaquin River water deliveries to Mendota Pool. The San Joaquin River Control Structure at the Chowchilla Bifurcation Structure would be removed and a bifurcation structure would be built at the head of the South Canal to control flood diversions into the Chowchilla Bypass and water delivery diversions into Mendota Pool. Fish passage facilities and a fish screen would be built at the South Canal Bifurcation Structure to provide passage around the structure and prevent fish being entrained in the diversion. A fish barrier would be built in Reach 3 to direct up-migrating fish into the Compact Bypass Channel and a new crossing would be built at the San Mateo Avenue crossing.

Alternative B (Compact Bypass with Consensus-Based Floodplain and Bifurcation Structure), the Preferred Alternative, would construct the Compact Bypass Channel between Reach 2B and Reach 3 to bypass the Mendota Pool. Restoration Flows would enter Reach 2B at the Chowchilla Bifurcation Structure, flow through Reach 2B, then downstream to Reach 3 via the Compact Bypass Channel. The existing Chowchilla Bifurcation Structure would continue to divert San Joaquin River flows into the Chowchilla Bypass during flood operations, and a fish passage facility and control structure modifications would be included at the San Joaquin River Control Structure at the Chowchilla Bypass. A bifurcation structure would be built at the head of the Compact Bypass Channel to control diversions into Mendota Pool. Fish passage facilities and a fish screen would be built at the Compact Bypass Bifurcation Structure to provide passage around the structure and prevent fish being entrained in the diversion. The San Mateo Avenue crossing would be removed.

Under Alternative C (Fresno Slough Dam with Narrow Floodplain and Short Canal), Fresno Slough Dam would be constructed across Fresno Slough to contain the Mendota Pool, utilizing the existing river channel to bypass the Mendota Pool. Restoration Flows would enter Reach 2B at the Chowchilla Bifurcation Structure, flow through Reach 2B, then downstream to Reach 3 over the sill at Mendota Dam. The Mendota Pool would be contained south of the Fresno Slough Dam. The existing Chowchilla Bifurcation Structure would continue to divert San Joaquin River flows into the Chowchilla Bypass during flood operations, and a fish passage facility and control structure modifications would be included at the San Joaquin River Control Structure at the Chowchilla Bypass. The Short Canal would be built adjacent to the Fresno Slough Dam to convey San Joaquin River water deliveries to Mendota Pool. The Mendota Dam, along with a control structure built at the head of the Short Canal, would be used to control diversions into Mendota Pool through the Short Canal. Fish passage facilities at Mendota Dam and a fish screen on the Short Canal would be built to provide passage around Mendota Dam and prevent fish from being entrained in the diversion. A fish barrier would be built downstream of the Fresno Slough Dam to keep up-migrating fish in Reach 2B and a new crossing would be built at the San Mateo Avenue crossing.

Alternative D (Fresno Slough Dam with Wide Floodplain and North Canal) would consist of building the Fresno Slough Dam across Fresno Slough to contain the Mendota Pool, and utilizing the existing river channel to bypass the Mendota Pool. Restoration Flows would enter Reach 2B, flow through the reach, then downstream to Reach 3 over the sill at Mendota Dam. Mendota Pool would be contained south of the Fresno Slough Dam. The North Canal would be built to convey San Joaquin River water deliveries to Mendota Pool. The San Joaquin River Control Structure at the Chowchilla Bifurcation Structure would be removed and a bifurcation structure would be built at the head of the North Canal to control flood diversions into the Chowchilla Bypass and water delivery diversions into Mendota Pool. Fish passage facilities and a fish screen would be built at the North Canal bifurcation structure to provide passage around the structure and prevent fish being entrained in the diversion. A fish barrier would be built downstream of the Fresno Slough Dam to keep up-migrating fish in Reach 2B and the existing San Mateo Avenue crossing would be removed.

Public Review of Draft EIS

Copies of the Draft EIS/EIR are available for public review at the following locations:

1. Bureau of Reclamation, Mid-Pacific Region, Regional Library, 2800 Cottage Way, Sacramento, CA 95825.

2. Bureau of Reclamation, South-Central California Area Office, 1243 N Street, Fresno, CA 93721.

3. Los Banos Library, 1312 S 7th St, Los Banos, CA 93635.

4. Fresno County Public Library—Mendota Branch Library, 1246 Belmont Ave, Mendota, CA 93640.

5. Fresno County Public Library—Firebaugh Branch Library, 1315 O St, Firebaugh, CA 93622.

6. Natural Resources Library, U.S. Department of the Interior, 1849 C Street NW., Main Interior Building, Washington, DC 20240-0001.

Special Assistance for Public Hearings

If special assistance is required to participate in the public meeting, please contact Ms. Margaret Gidding at (916) 978-5461, or via email at Reach2B_EISEIR_Comments@restoresjr.net. Please contact Ms. Gidding at least 10 working days prior to the meeting. A telephone device for the hearing impaired (TTY) is available at 1-800-877-8339.

Public Disclosure

Before including your address, phone number, email address, or other personal identifying information in your comment, you should be aware that your entire comment—including your personal identifying information—may be made publicly available at any time. While you can ask us in your comment to withhold your personal identifying information from public review, we cannot guarantee that we will be able to do so.

Dated: June 3, 2015.
Pablo R. Arroyave,
Deputy Regional Director.

[FR Doc. 2015-14032 Filed 6-8-15; 8:45 am]

BILLING CODE 4332-90-P